ENVIRONMENTAL PROTECTION AGENCY

[ER-FRL-9039-3]

Environmental Impact Statements; Notice of Availability

Responsible Agency: Office of Federal Activities, General Information (202) 564-7156 or https://www2.epa.gov/nepa/.

Weekly receipt of Environmental Impact Statements

Filed 04/30/2018 Through 05/04/2018

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180086, Final, USFS, CO, Final Environmental Impact Statement for Glade Rangeland Management, Review Period Ends: 06/11/2018, Contact: Deborah Kill 970-882-6822.

EIS No. 20180087, Draft, USDA, NAT, Southern Gardens Citrus Nursery, LLC Permit to Release Genetically Engineered Citrus Tristeza Virus Draft Environmental Impact Statement, Comment Period Ends: 06/25/2018, Contact: Dr. Sidney Abel 301-851-3896.

EIS No. 20180088, Draft, FHWA, ND, U.S. Highway 85_I-94 Interchange to Watford City Bypass (McKenzie County Road 30), Comment Period Ends: 06/25/2018, Contact: Kevin Brodie 701-221-9467.

EIS No. 20180089, Final, USACE, CA, Mather Specific Plan Project, Review Period Ends: 06/11/2018, Contact: Mary Pakenham-Walsh 916-557-7718.

EIS No. 20180090, Draft, NMFS, MA, Amendment 8 to the Atlantic Herring Fishery Management Plan, Comment Period Ends: 06/25/2018, Contact: Carrie Nordeen 978-281-9272.

EIS No. 20180091, Draft, BLM, CO, Draft Environment Impact Statement for the Blue Valley Ranch Land Exchange, Comment Period Ends: 06/25/2018, Contact: Annie Sperandio 970-724-3062.

EIS No. 20180092, Draft, USFS, NM, Luna Restoration Project, Comment Period Ends: 06/25/2018, Contact: Emily Irwin 575-773-4678.

EIS No. 20180093, Final, USFS, NM, Santa Fe National Forest Geothermal Leasing Final Environmental Impact Statement, Comment Period Ends: 06/11/2018, Contact: Larry Gore 575-289-3264.

EIS No. 20180094, Final Supplement, USFS, NM, Supplement to the Final EIS for Invasive Plant Control Project, Comment Period Ends: 06/11/2018, Contact: Sandra Imler-Jacquez 505-438-5443.

Amended Notice

Revision to the Federal Register Notice published 05/04/2018, EIS No. 20180078, Draft, FHWA, TX, Oakhill Parkway, change lead agency to TX DOT, pursuant to 23 U.S.C. 327, Contact: Carlos Swonke 512-416-2734.

Adoption

USFS has adopted the NPS Final EIS No. 20180077, Olympic National Park Mountain Goat Management Plan, filed 04/27/2018 with EPA. USFS was a cooperating agency; therefore, recirculation of the document was not necessary under Section 1506.3(b) of the CEQ Regulations.

Dated: May 8, 2018.
Kelly Knight,
Director, NEPA Compliance Division, Office of Federal Activities.

[FR Doc. 2018-10126 Filed 5-10-18; 8:45 am]

BILLING CODE 6560-50-P